DEPARTMENT OF STATE

[Public Notice: 9955]

60-Day Notice of Proposed Information Collection: Nonimmigrant Visa Application

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to July 3, 2017.

ADDRESSES: You may submit comments by any of the following methods:

• Web: Persons with access to the Internet may comment on this notice by going to www.Regulations.gov. You can search for the document by entering “Docket Number: DOS-2017-0015” in the Search field. Then click the “Comment Now” button and complete the comment form.

• Email: PRA_BurdenComments@state.gov.

You must include the DS form number (if applicable), information collection title, and the OMB control number in any correspondence.

FOR FURTHER INFORMATION CONTACT: Direct requests for additional information regarding the collection listed in this notice, including requests for copies of the proposed collection instrument and supporting documents to PRA_Burdencomments@state.gov.

SUPPLEMENTARY INFORMATION: • Title of Information Collection: Nonimmigrant Visa Application.

• OMB Control Number: 1405-0018.

• Type of Request: Revision of a Currently Approved Collection.

• Originating Office: CA/VO/L/R.

• Form Number: DS-156.

• Respondents: Nonimmigrant Visa Applicants.

• Estimated Number of Respondents: 3,466.

• Estimated Number of Responses: 3,466.

• Average Time per Response: 75 minutes.

• Total Estimated Burden Time: 4,333.

• Frequency: Once per respondent.

• Obligation to Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

Form DS-156 is required by regulation of all nonimmigrant visa applicants who do not use the Online Application for Nonimmigrant Visa (Form DS-160). Posts will use the DS-156 in limited circumstances when use of the DS-160 unavailable as outlined below, to elicit information necessary to determine an applicant's visa eligibility.

Methodology

This form will only be used if in the following limited circumstances when applicants cannot access the DS-160, Online Application for Nonimmigrant Visa:

• An applicant has an urgent medical or humanitarian travel need and the consular officer has received explicit permission from the Visa Office to accept form DS-156;

• The applicant is a student exchange visitor who must leave immediately in order to arrive on time for his/her course and the consular officer has explicit permission from the Visa Office to accept form DS-156;

• The applicant is a diplomatic or official traveler with urgent government business and form DS-160 has been unavailable for more than four hours; or

• Form DS-160 has been unavailable for more than three days and the officer receives explicit permission from the Visa Office.

In order of obtain a copy of form an applicant must contact the Embassy or consulate at which he or she is applying and request a copy.

Karin King,
Acting Deputy Assistant Secretary, Bureau of Consular Affairs, Department of State.

[FR Doc. 2017-08803 Filed 5-1-17; 8:45 am]

BILLING CODE 4710-06-P